DEPARTMENT OF VETERANS AFFAIRS

[OMB Control No. 2900-0863]

Agency Information Collection Activity: Clause 852.237-73, Crime Control Act—Requirement for Background Checks

AGENCY: Office of Acquisition and Logistics, Department of Veterans Affairs.

ACTION: Notice.

SUMMARY: In compliance with the Paperwork Reduction Act (PRA) of 1995, this notice announces that the Office of Acquisition and Logistics (OAL), Department of Veterans Affairs (VA), will submit the collection of information abstracted below to the Office of Management and Budget (OMB) for review and comment. The PRA submission describes the nature of the information and its expected cost and burden, and it includes the actual data collection instrument.

DATES: Comments and recommendations on the proposed information collection should be sent by December 22, 2025.

ADDRESSES: To submit comments and recommendations for the proposed information collection, please type the following link into your browser: www.reginfo.gov/public/do/PRAMain, select “Currently under Review—Open for Public Comments”, then search the list for the information collection by Title or “OMB Control No. 2900-0863.”

FOR FURTHER INFORMATION CONTACT: VA PRA information: Dorothy Glasgow, 202-461-1084, VAPRA@va.gov.

SUPPLEMENTARY INFORMATION:

Title: Clause 852.237-73, Crime Control Act—Requirement for Background Checks.

OMB Control Number: 2900-0863 https://www.reginfo.gov/public/do/PRASearch.

Type of Review: Extension without change of a currently approved collection.

Abstract: This Paperwork Reduction Act (PRA) submission seeks renewal without changes of Office of Management and Budget (OMB) approved No. 2900-0863, VAAR clause 852.237-73, Crime Control Act—Requirement for Background Checks. Under the Crime Control Act of 1990 (34 U.S.C. 20351), each agency of the Federal Government, and every facility operated by the Federal Government, or operated under contract with the Federal Government, that hires, or contracts for hire, individuals involved with the provision to children under the age of 18 of childcare services shall assure that all existing and newly hired employees undergo a criminal history background check. VAAR clause 852.237-73, Crime Control Act—Requirement for Background Checks, is required in all solicitations, contracts, and orders that involve providing childcare services to children under the age of 18, including social services, health and mental health care, child-(day) care, education (whether or not directly involved in teaching), and rehabilitative programs covered under the statute.

An agency may not conduct or sponsor, and a person is not required to respond to a collection of information unless it displays a currently valid OMB control number. The Federal Register Notice with a 60-day comment period soliciting comments this collection of information was published at 90 FR 44905, September 17, 2025.

Affected Public: Business or other for-profit.

Estimated Annual Burden: 1,500 hours.

Estimated Average Burden per Respondent: 60 minutes.

Frequency of Response: One per contract employee.

Estimated Number of Respondents: 1,500.

Authority: 44 U.S.C. 3501 et seq.

Dorothy Glasgow,
Acting, VA PRA Clearance Officer, Office of Information Technology, Data Governance Analytics Department of Veterans Affairs.

[FR Doc. 2025-20560 Filed 11-20-25; 8:45 am]

BILLING CODE 8320-01-P